DEPARTMENT OF COMMERCE

National Oceanic and Atmospheric Administration

50 CFR Part 622

[Docket No. 120815345-3525-02]

RIN 0648-XD628

Snapper-Grouper Fishery of the South Atlantic; 2014 Recreational Accountability Measure and Closure for Gray Triggerfish in the South Atlantic

AGENCY: National Marine Fisheries Service (NMFS), National Oceanic and Atmospheric Administration (NOAA), Commerce.

ACTION: Temporary rule; closure.

SUMMARY: NMFS implements accountability measures (AMs) for recreational gray triggerfish in the exclusive economic zone (EEZ) of the South Atlantic. Because recreational landings for gray triggerfish in the 2013 fishing year exceeded the recreational annual catch limit (ACL) for the stock, NMFS monitored recreational landings in 2014 for a persistence in increased landings. Through this temporary rule, NMFS now closes the recreational sector for gray triggerfish in the South Atlantic EEZ on November 26, 2014, as NMFS has projected the recreational ACL to have been met for the 2014 fishing year. This closure is necessary to protect the gray triggerfish resource.

DATES: This rule is effective 12:01 a.m., local time, November 26, 2014, until 12:01 a.m., local time, January 1, 2015.

FOR FURTHER INFORMATION CONTACT: Catherine Hayslip, telephone: 727-824-5305, or email: catherine.hayslip@noaa.gov.

SUPPLEMENTARY INFORMATION: The snapper-grouper fishery of the South Atlantic, which includes gray triggerfish, is managed under the Fishery Management Plan for Snapper-Grouper Fishery of the South Atlantic Region (FMP). The FMP was prepared by the South Atlantic Fishery Management Council and is implemented under the authority of the Magnuson-Stevens Fishery Conservation and Management Act (Magnuson-Stevens Act) by regulations at 50 CFR part 622.

The recreational ACL for gray triggerfish is 353,638 lb (160,407 kg), round weight. In accordance with regulations at 50 CFR 622.193(q)(2), if the recreational ACL is exceeded, the Assistant Administrator, NMFS (AA), will file a notification with the Office of the Federal Register to reduce the length of the following fishing season by the amount necessary to ensure landings do not exceed the recreational ACL in the following fishing year. In the 2013 fishing year, recreational landings were 373,983 lb (169,636 kg), round weight, and therefore, exceeded the recreational ACL by 20,345 lb (9,228 kg), round weight. NMFS received landings projections on November 12, 2014, that indicated the fishery has likely met the recreational ACL. Therefore, this temporary rule closes the recreational sector for gray triggerfish within the snapper-grouper fishery in 2014, effective 12:01 a.m., local time, November 26, 2014.

During the closure, the bag and possession limit for gray triggerfish in or from the South Atlantic EEZ is zero. The recreational sector for gray triggerfish will reopen on January 1, 2015, the beginning of the 2015 recreational fishing season. Upon reaching the commercial ACL, NMFS closed the commercial sector for gray triggerfish effective May 12, 2014 (79 FR 26375, May 8, 2014). Therefore, on November 26, 2014, no commercial or recreational harvest of gray triggerfish from the South Atlantic EEZ is permitted until January 1, 2015.

Classification

The Assistant Administrator (AA), Southeast Region, NMFS, has determined this temporary rule is necessary for the conservation and management of South Atlantic gray triggerfish within the South Atlantic snapper-grouper fishery and is consistent with the Magnuson-Stevens Act and other applicable laws.

This action is taken under 50 CFR 622.193(q)(2) and is exempt from review under Executive Order 12866.

These measures are exempt from the procedures of the Regulatory Flexibility Act because the temporary rule is issued without opportunity for prior notice and comment.

This action responds to the best scientific information available recently obtained from the fishery. The AA finds that the need to immediately implement this action to close the recreational sector for gray triggerfish constitutes good cause to waive the requirements to provide prior notice and opportunity for public comment pursuant to the authority set forth in 5 U.S.C. 553(b)(B), as such procedures are unnecessary and contrary to the public interest. Such procedures are unnecessary because the rule itself has been subject to notice and comment, and all that remains is to notify the public of the closure. Additionally, such procedures are contrary to the public interest because there is a need to immediately notify the public of the recreational closure for gray triggerfish for the 2014 fishing year, to prevent recreational harvest of gray triggerfish from further exceeding the ACL, which will help protect this resource in the South Atlantic.

For the aforementioned reasons, the AA also finds good cause to waive the 30-day delay in the effectiveness of this action under 5 U.S.C. 553(d)(3).

Authority: 16 U.S.C. 1801 et seq.

Dated: November 20, 2014.
Alan D. Risenhoover,
Director, Office of Sustainable Fisheries, National Marine Fisheries Service.

[FR Doc. 2014-27943 Filed 11-21-14; 11:15 am]

BILLING CODE 3510-22-P